DEPARTMENT OF ENERGY

Bonneville Power Administration

Washington-Action Agency Estuary Habitat Memorandum of Agreement Record of Decision

AGENCY: Bonneville Power Administration (BPA), Department of Energy (DOE).

ACTION: Notice of availability of Record of Decision (ROD).

SUMMARY: This notice announces the availability of the ROD under the National Environmental Policy Act (NEPA) for the Estuary Habitat Memorandum of Agreement (MOA) with the State of Washington consistent with and tiered to the Fish and Wildlife Implementation Plan Environmental Impact Statement (DOE/EIS-0312, April 2003) and ROD (October 31, 2003). The NEPA ROD for the MOA is included as part of the Administrator's ROD for the MOA. BPA has decided to enter into a MOA with the State of Washington and two Federal agencies (the U.S. Army Corps of Engineers and the U.S. Bureau of Reclamation) to provide for a 9-year funding commitment for Columbia River Estuary habitat projects to help strengthen populations of steelhead and salmon listed under the Endangered Species Act. The Columbia River Estuary includes the mainstem Columbia River from the mouth of the River at its confluence with the Pacific Ocean, up to Bonneville Dam, including tidally-influenced tributaries below Bonneville Dam. The Columbia River Estuary includes important habitat for all Columbia Basin salmon and steelhead species, as well as a wide variety of other fish and wildlife species. The MOA is consistent with and will work in concert with the 2008 Biological Opinion issued by the National Oceanic and Atmospheric Administration-Fisheries for the Federal Columbia River Power System for listed salmon and steelhead. The MOA also supports BPA's implementation of the Northwest Power and Conservation Council's Columbia Basin Fish and Wildlife Program.

ADDRESSES: Copies of the ROD may be obtained by calling BPA's toll-free document request line, 1-800-622-4520. The ROD is also available on the BPA Web site, http://www.bpa.gov/corporate/pubs/rods/2008/.

FOR FURTHER INFORMATION CONTACT: Sandra Ackley, Bonneville Power Administration—KEC-4, P.O. Box 3621, Portland, Oregon, 97208-3621; toll-free telephone number 1-800-282-3713; fax number 503-230-5699; or e-mail sjackley@bpa.gov.

Issued in Portland, Oregon, on September 15, 2009.
Stephen J. Wright,
Administrator and Chief Executive Officer.

[FR Doc. E9-22926 Filed 9-22-09; 8:45 am]

BILLING CODE 6450-01-P